ELECTION ASSISTANCE COMMISSION

Sunshine Act Notice

AGENCY: United States Election Assistance Commission (EAC).

ACTION: Notice of virtual public forum for EAC Standards Board.

Date and Time: Thursday, May 17, 2007, 7 a.m. EDT through Tuesday, May 22, 7 a.m. EDT.

Place: EAC Standards Board virtual meeting room at http://www.eac.gov. Once at the main page mf EAC's Web site, viewers should click the link to the Standards Board Virtual Meeting Room. The virtual meeting room will open on Thursday, May 17, 2007, at 7 a.m. EDT and will close on Tuesday, May 22, at 7 a.m. EDT. The site will be available 24 hours per day during that 5-day period.

Purpose: The EAC Standards Board will review and provide comment on a draft EAC report that was developed by Design for Democracy. The draft report contains best practices suggestions on the design of voter information, optical scan ballots and direct recording electronic (DRE) ballots based on legislative guidelines, information design principles and user centered research.

The EAC Standards Board virtual meeting room was established to enable the Standards Board to review and discuss draft documents in a public forum when it is not feasible for an in-person board meeting. The May 17-22, 2007 forum is the first use of this virtual meeting room and as such is a test of the concept. The Standards Board will not take any votes or propose any resolutions during this 5-day forum. Members will post comments about the draft best practices suggestions for the design of voter information and ballots.

Statement of Exceptional Circumstances

This notice of a special forum will not be published in the Federal Register 15 days prior to the dates that the forum will be open. Late notice was unavoidable due to the short timeline between when EAC will receive the draft report and the scheduled date for final approval of June 14, 2007. The timetable for the noticed forum was expedited to allow EAC sufficient time to receive, review and consider comments from members of the Standards Board, EAC Board of Advisors and the public prior to preparation of the report.

This activity is open to the public. The public may view the proceedings of this special forum by visiting the EAC Standards Board virtual meeting room at www.eac.gov at any time between Thursday, May 17, 2007, 7 a.m. EDT and Tuesday, May 22, 2007, 7 a.m. EDT. The public also may view the draft report of suggested best practices for voter information and ballot designs, which will be posted on EAC's Web site beginning May 17, 2007. The public may file written statements to the EAC Standards Board at standardsboard@eac.gov.

Data on EAC's Web site is accessible to visitors with disabilities and meets the requirements of Section 508 of the Rehabilitation Act.

FOR FURTHER INFORMATION CONTACT: Bryan Whitener, Telephone: (202) 566-3100.

Thomas R. Wilkey,
Executive Director, U.S. Election Assistance Commission.

[FR Doc. 07-2403 Filed 5-11-07; 12:14 pm]

BILLING CODE 6820-KF-M